DEPARTMENT OF TRANSPORTATION

Federal Motor Carrier Safety Administration

Sunshine Act Meetings; Unified Carrier Registration Plan Board of Directors

AGENCY: Federal Motor Carrier Safety Administration (FMCSA), DOT.

Time and Date: March 15, 2007, 1 p.m. to 4:20 p.m., Eastern Daylight Time.

Place: This meeting will take place telephonically. Any interested person may call Mr. Avelino Gutierrez at (505) 827-4565 to receive the toll free number and pass code needed to participate in this meeting by telephone.

Status: Open to the public.

Matters to be Considered: The Unified Carrier Registration Plan Board of Directors (the Board) will continue its work in developing and implementing the Unified Carrier Registration Plan and Agreement. The Board may consider and adopt recommendations made to the Board by its Revenue and Fees Subcommittee to revise the fee scale that the Board originally recommended to the Federal Motor Carrier Safety Administration and other matters that may properly come before the Board.

FOR FURTHER INFORMATION CONTACT: Mr. Avelino Gutierrez, Chair, Unified Carrier Registration Board of Directors at (505) 827-4565.

Dated: March 5, 2007.
John H. Hill,
Administrator.

[FR Doc. 07-1086 Filed 3-5-07; 2:02 pm]

BILLING CODE 4910-EX-P